OFFICE OF PERSONNEL MANAGEMENT

5 CFR Parts 875

RIN 3206-AN05

Federal Long Term Care Insurance Program Eligibility; Corrections

AGENCY: U.S. Office of Personnel Management.

ACTION: Correcting amendments.

SUMMARY: The United States Office of Personnel Management (OPM) published a document in the Federal Register on October 30, 2015, (80 FR 66785) expanding eligibility to apply for coverage under the Federal Long Term Care Insurance Program (FLTCIP). The final rule stated that the definitions for “domestic partner” and “domestic partnership” were revised, but OPM meant to add the definitions. This correcting amendment adds those definitions to OPM's regulations.

DATES: Effective March 30, 2016.

FOR FURTHER INFORMATION CONTACT: Ronald Brown, Policy Analyst, (202) 606-0004, or by email to Ronald.Brown@opm.gov.

SUPPLEMENTARY INFORMATION: On October 30, 2015, OPM published FLTCIP final regulations in the Federal Register to (1) Expand the definition of “qualified relative” under 5 U.S.C. 9001(5)(D) to include both same-sex and opposite-sex domestic partners of Federal and U.S. Postal Service employees and annuitants and members and retired members of the uniformed services; (2) expand the definition of “qualified relative” to include adult children of domestic partners of Federal and U.S. Postal Service employees and annuitants, and members and retired members of the uniformed services; and (3) make other technical conforming amendments. See 80 FR 66785-66787. This document amends the regulations by adding the definitions of “domestic partner” and “domestic partnership” to 5 CFR 875.101.

List of Subjects in 5 CFR Part 875

Administrative practice and procedure, Employee benefit plans, Government contracts, Government employees, Health insurance, Military personnel, Organization and functions, Retirement.

U.S. Office of Personnel Management.
Beth F. Cobert,
Acting Director.

Accordingly, OPM is amending 5 CFR part 875 as follows:

PART 875—FEDERAL LONG TERM CARE INSURANCE PROGRAM

1. The authority citation for 5 CFR part 875 continues to read as follows:

Authority: 5 U.S.C. 9008.

Subpart A—Administration and General Provisions

2. Section 875.101 is amended by adding the definitions of “Domestic partner” and “Domestic partnership” in alphabetical order to read as follows:

§ 875.101 Definitions.

* * * * *

Domestic partner is defined as a person in a domestic partnership with an employee, annuitant, member of the uniformed services, or retired member of the uniformed services.

Domestic partnership means:

(1) A committed relationship between two adults, of the opposite sex or same sex, in which the partners—

(i) Are each other's sole domestic partner and intend to remain so indefinitely;

(ii) Maintain a common residence, and intend to continue to do so (or would maintain a common residence but for an assignment abroad or other employment-related, financial, or similar obstacle);

(iii) Are at least 18 years of age and mentally competent to consent to a contract;

(iv) Share responsibility for a significant measure of each other's financial obligations;

(v) Are not married or joined in a civil union to anyone else;

(vi) Are not a domestic partner of anyone else;

(vii) Are not related in a way that would prohibit legal marriage in the U.S. jurisdiction in which the domestic partnership was formed;

(viii) Provide documentation demonstrating fulfillment of the requirements of paragraphs (1)(i) through (vii) of this definition as prescribed by OPM; and

(ix) Certify that they understand that willful falsification of the documentation described in paragraph (1)(viii) of this definition may lead to disciplinary action and the recovery of the cost of benefits received related to such falsification and may constitute a criminal violation under 18 U.S.C. 1001.

(2) You or your domestic partner must notify the employing office if at any time between the time of application and the time coverage is scheduled to go into effect, any of the conditions listed in paragraphs (1)(i) through (vii) of this definition are no longer met, in which case a domestic partnership is deemed terminated. Such notification must be made as soon as possible, but in no event later than thirty calendar days after such conditions are no longer met.

* * * * *

[FR Doc. 2016-04322 Filed 2-26-16; 8:45 am]

BILLING CODE 6325--63-P